DEPARTMENT OF DEFENSE

Office of the Inspector General; Privacy Act of 1974; System of Records

AGENCY: Office of the Inspector General, DoD.

ACTION: Notice to alter a system of records.

SUMMARY: The Inspector General, DoD is proposing to alter an existing system of records in its inventory of records systems subject to the Privacy Act of 1974 (5 U.S.C. 552a), as amended. The alteration consists of adding exemptions to the existing system of records CIG 01, entitled “Privacy Act and Freedom of Information Act Case Files”.

The exemptions are needed because during the course of a Freedom of Information Act (FOIA) and Privacy Act action, exempt materials from other systems of records may in turn become part of the case records in the system. To the extent that copies of exempt records from those “other” systems of records are entered into the Freedom of Information Act and/or Privacy Act case records, the Inspector General, DoD, hereby claims the same exemptions for the records from those “other” systems that are entered into this system, as claimed for the original primary systems of records which they are a part. Therefore, the Inspector General, DoD is proposing to add exemptions 5 U.S.C. 552a(j)(2), (k)(1) through (k)(7) to an existing system of records.

DATES: This proposed action will be effective without further notice on May 5, 2003, unless comments are received which result in a contrary determination.

ADDRESSES: Send comments to Office of the Inspector General, Department of Defense, 400 Army Navy Drive, Room 201, Arlington, VA 22202-4704.

FOR FURTHER INFORMATION CONTACT: Mr. Joseph E. Caucci at (703) 604-9786.

SUPPLEMENTARY INFORMATION: The Office of the Inspector General, DoD notice for system of records subject to the Privacy Act of 1974, (5 U.S.C. 552a), as amended, have been published in the Federal Register and are available from the address above.

The proposed systems report, as required by 5 U.S.C. 552a(r) of the Privacy Act of 1974, as amended, was submitted on March 20, 2003, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 25, 2003.
Patricia L. Toppings,
Alternate OSD Federal Register Liaison Officer, Department of Defense.

CIG-01

System name:

Privacy Act and Freedom of Information Act Files (February 22, 1993, 58 FR 10213).

Changes:

* * * * *

System name:

Delete entry and replace with “Privacy Act and Freedom of Information Act Case Files.”

* * * * *

Categories of individuals covered by the system:

Delete entry and replace with “All individuals who submit Freedom of Information Act (FOIA) and Privacy Act (PA) requests and administrative appeals to the Office of the Inspector General (OIG), DoD and other activities receiving administrative FOIA and Privacy Act support from the OIG; individuals whose FOIA and Privacy Act requests and/or records have been referred by other Federal agencies to the OIG for release to the requester; attorneys representing individuals submitting such requests and appeals, individuals who are the subjects of such requests and appeals, and/or the OIG personnel assigned to handle such requests and appeals.”

Categories of records in the system:

Delete entry and replace with “Records created or compiled in response to FOIA and Privacy Act requests and administrative appeals, i.e., original requests and administrative appeals; responses to such requests and administrative appeals; all related memoranda, correspondence, notes, and other related or supporting documentation; and copies of requested records and records under administrative appeal.”

* * * * *

Purpose(s):

Delete entry and replace with “Information is being collected and maintained for the purpose of processing FOIA and Privacy Act requests and administrative appeals; for participating in litigation regarding agency action on such requests and appeals; for amendment to records made under the Privacy Act and to document OIG actions in response to these requests; and for assisting the Office of the Inspector General, DoD in carrying out any other responsibilities under the FOIA.

Also, information may be provided to the appropriate OIG element when further action is needed to verify assertions of the requester or to obtain permission to release information obtained from sources.”

* * * * *

Retrievability:

Delete entry and replace with “Retrieved by individual's name, subject matter, date of document, and request number.”

* * * * *

Retention and disposal:

Delete entry and replace with “FOIA and Privacy Act paper records that are granted in full are destroyed 2 years after the date of reply. Paper records that are denied in whole or part, no records responses, responses to requesters who do not adequately describe records being sought, do not state a willingness to pay fees, and records which are appealed or litigated, are destroyed 6 years after final FOIA action and 5 years after final Privacy Act action, or three years after final adjudication by courts, whichever is later. Electronic records are deleted within 180 or when no longer needed to support office business needs.”

* * * * *

Exemptions claimed for the system:

Delete entry and replace with “During the course of a FOIA and Privacy Act action, exempt materials from other systems of records may in turn become part of the case records in this system. To the extent that copies of exempt records from those “other” systems of records are entered into this FOIA or Privacy Act case record, Office of the Inspector General hereby claims the same exemptions for the records from those “other” systems that are entered into this system, as claimed for the original primary systems of records which they are a part.

An exemption rule for this system has been promulgated in accordance with requirements of 5 U.S.C. 553(b)(1), (2), and (3), (c) and (e) and published in 32 CFR part 312. For additional information contact the system manager.”

* * * * *

CIG-01

System name:

Privacy Act and Freedom of Information Act Case Files.

System location:

Freedom of Information and Privacy Act Office, Administrative Services Division, Office of the Inspector General of the Department of Defense, 400 Army Navy Drive, Arlington, VA 22202-4704.

Categories of individuals covered by the system:

All individuals who submit Freedom of Information Act (FOIA) and Privacy Act (PA) requests and administrative appeals to the Office of the Inspector General (OIG), DoD and other activities receiving administrative FOIA and Privacy Act support from the OIG; individuals whose FOIA and Privacy Act requests and/or records have been referred by other Federal agencies to the OIG for release to the requester; attorneys representing individuals submitting such requests and appeals, individuals who are the subjects of such requests and appeals, and/or the OIG personnel assigned to handle such requests and appeals.

Categories of records in the system:

Records created or compiled in response to FOIA and Privacy Act requests and administrative appeals, i.e., original requests and administrative appeals; responses to such requests and administrative appeals; all related memoranda, correspondence, notes, and other related or supporting documentation; and copies of requested records and records under administrative appeal.

Authority for maintenance of the system:

5 U.S.C. 301, Departmental Regulations; 5 U.S.C. 552a, as amended; DoD 5400.11-R, Department of Defense Privacy Program; 5 U.S.C. 552, The Freedom of Information Act, as amended; and DoD 5400.7-R, DoD Freedom of Information Act Program.

Purpose(s):

Information is being collected and maintained for the purpose of processing FOIA and Privacy Act requests and administrative appeals; for participating in litigation regarding agency action on such requests and appeals; for amendment to records made under the Privacy Act and to document OIG actions in response to these requests; and for assisting the Office of the Inspector General, DoD in carrying out any other responsibilities under the FOIA.

Also, information may be provided to the appropriate OIG element when further action is needed to verify assertions of the requester or to obtain permission to release information obtained from sources.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information from this system may be provided to other Federal agencies and state and local agencies when it is necessary to coordinate responses or denials.

The DoD “Blanket Routine Uses” set forth at the beginning of the OIG's compilation of systems of records notices also apply to this system.

Policies and practices for storing, retrieving, accessing, retaining, and disposing of records in the system:

Storage:

Paper records in file folders and on electronic storage media.

Retrievability:

Retrieved by individual's name, subject matter, date of document, and request number.

Safeguards:

Records are stored in locked security containers accessible only to authorized personnel.

Retention and disposal:

FOIA and Privacy Act paper records that are granted in full are destroyed 2 years after the date of reply. Paper records that are denied in whole or part, no records responses, responses to requesters who do not adequately describe records being sought, do not state a willingness to pay fees, and records which are appealed or litigated, are destroyed 6 years after final FOIA action and 5 years after final Privacy Act action, or three years after final adjudication by courts, whichever is later. Electronic records are deleted within 180 or when no longer needed to support office business needs.

System manager(s) and address:

Chief, Freedom of Information Act and Privacy Act Office, Administrative Services Division, Office of the Inspector General, DoD, 400 Army Navy Drive, Arlington, VA 22202-4704.

Notification procedure:

Individuals seeking to determine whether information about themselves is contained in this system should address written inquiries to the Chief, Freedom of Information Act and Privacy Act Office, Administrative Services Division, Office of the Inspector General, DoD, 400 Army Navy Drive, Arlington, VA 22202-4704.

Please include full information regarding the previous request such as date, subject matter, and if available, copies of the previous OIG reply.

Record access procedures:

Individuals seeking access to information about themselves contained in this system should address written inquiries to the Chief, Freedom of Information Act and Privacy Act Office, Administrative Services Division, Office of the Inspector General, DoD, 400 Army Navy Drive, Arlington, VA 22202-4704.

Please include full information regarding the previous request such as date, subject matter, and if available, copies of the previous OIG reply.

Contesting record procedures:

The OIG's rules for accessing records and for contesting contents and appealing initial agency determinations are published in 32 CFR part 312 or may be obtained from the system manager.

Record source categories:

From the individuals on whom records are maintained and official records.

Exemptions claimed for the system:

During the course of a FOIA and Privacy Act action, exempt materials from other systems of records may in turn become part of the case records in this system. To the extent that copies of exempt records from those “other” systems of records are entered into this FOIA or Privacy Act case record, Office of the Inspector General hereby claims the same exemptions for the records from those “other” systems that are entered into this system, as claimed for the original primary systems of records which they are a part.

An exemption rule for this system has been promulgated in accordance with requirements of 5 U.S.C. 553(b)(1), (2), and (3), (c) and (e) and published in 32 CFR part 312. For additional information contact the system manager.

[FR Doc. 03-8017 Filed 4-2-03; 8:45 am]

BILLING CODE 5001-08-P